DEPARTMENT OF HEALTH AND HUMAN SERVICES

Administration for Children and Families

Office of Community Services

AGENCY: Office of Community Services, ACF, DHHS.

ACTION: Notice to Award a Program Expansion Supplement for the Community Action Partnership (CAP) in Washington, DC.

CFDA#: 53.570.

Legislative Authority: Section 678A(a)(1)(A) of the Community Services Block Grant (CSBG) Act of 1981, (Pub. L. 97-35) as amended by the Community Opportunities, Accountability, and Training and Educational Services (COATES) Human Services Reauthorization Act of 1998, (Pub. L. 105-285) authorizes the Secretary of Health and Human Services (HHS) to use a percentage of appropriated funds for training, technical assistance, planning, evaluation, performance measurement, monitoring, assistance for States in carrying out corrective actions and the correction of programmatic deficiencies of eligible entities under the CSBG Act.

Amount of Award: $40,000.

Project Period: 9/30/2006-9/29/2009.

SUMMARY: This supplement would enhance the ability for the CAP to find new ways to address training and technical assistance needs. After gathering information from the Community Action Network, the applicant will provide a report to the Office of Community Services (OCS) containing recommendations about creative approaches and strategies for providing technical assistance and training to Community Action Agencies (CAAs). The applicant will compile information gathered thru: Brainstorming sessions with members of the Community Action Network and the Virtual CAP. The report to OCS will include sections on major recommendations and a strategy for implementation. These will be supported by summaries of the ideas presented at the sessions and input compiled by Virtual CAP.

FOR FURTHER INFORMATION CONTACT: Josephine B. Robinson, Director, Office of Community Services, 370 L'Enfant Promenade, SW., Washington, DC 20047, Telephone: 202/401-9333.

Dated: September 16, 2008.
Josephine B. Robinson,
Director, OCS.

[FR Doc. E8-22319 Filed 9-23-08; 8:45 am]

BILLING CODE 4184-01-P